FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than January 31, 2001.

A. Federal Reserve Bank of Atlanta (Cynthia C. Goodwin, Vice President) 104 Marietta Street, N.W., Atlanta, Georgia 30303-2713:

1. Nancy Barr Dixon, Eufaula, Alabama; Michael Charles Dixon, Sr., Eufaula, Alabama; Hope Cotton Dixon, Eufaula, Alabama; Michael Charles Dixon, Jr., Eufaula, Alabama; Claudia Dixon Balkcom, Atlanta, Georgia; Heather Barr Dixon, Eufaula, Alabama; Marian Christine Dixon, Birmingham, Alabama; Rebecca Janie Mac Dixon, Auburn, Alabama; Robert Mack Dixon, Eufaula, Alabama; Mary Elliott Dixon, Eufaula, Alabama; Mary Clayton Dixon, Eufaula, Alabama; Eric Ross Fenichel, Atlanta, Georgia; Janie Dixon King, Eufaula, Alabama; William Daniel King, Eufaula, Alabama; Robert Mack Dixon, Jr., Eufaula, Alabama; Preston Copeland Dixon, Birmingham, Alabama; James Franklin Dixon, III, Birmingham, Alabama; Rita Hallett Dixon, Birmingham, Alabama; Thomas Seay Lawson, Jr., Montgomery, Alabama; Sarah Clayton Lawson, Montgomery, Alabama; and Preston Copeland Clayton, Jr., Eufaula, Alabama; all to retain voting shares of Eufaula BancCorp, Inc., Eufaula, Alabama, and thereby indirectly retain voting shares of Southern Bank of Commerce, Eufaula, Alabama, and First American Bank of Walton County, Santa Rosa Beach, Florida.

Board of Governors of the Federal Reserve System, January 11, 2001.
Robert deV. Frierson,
Associate Secretary of the Board.

[FR Doc. 01-1434 Filed 1-17-01; 8:45 am]

BILLING CODE 6210-01-S